DEPARTMENT OF HEALTH AND HUMAN SERVICES

Substance Abuse and Mental Health Services Administration

Funding Opportunity Title: Development of Comprehensive Drug/Alcohol and Mental Health Treatment Systems for Persons Who Are Homeless (Short Title: Treatment for Homeless)

Announcement Type: Initial.

Funding Opportunity Number: TI 04-001.

Catalog of Federal Domestic Assistance (CFDA) Number: 93.243.

Due Date for Applications: May 28, 2004.

[Note: Letters from State Single Point of Contact (SPOC) in response to E.O. 12372 are due July 27, 2004.]

SUMMARY: The Substance Abuse and Mental Health Services Administration (SAMHSA), Center for Substance Abuse Treatment (CSAT), and Center for Mental Health Services (CMHS), announce the availability of FY 2004 funds for the Development of Comprehensive Drug/Alcohol and Mental Health Treatment Systems for Persons Who are Homeless (Short Title: Treatment for Homeless). A synopsis of this funding opportunity, as well as many other Federal Government funding opportunities, are also available at the Internet site: www.grants.gov.

For complete instructions, potential applicants must obtain a copy of SAMHSA's standard Services Grants Program Announcement, SVC-04 PA (MOD), and the PHS 5161-1 (Rev. 7/00) application form before preparing and submitting an application. The SVC-04 PA (MOD) describes the general program design and provides instructions for applying for all SAMHSA Services Grants, including the Treatment for Homeless program. SAMHSA's Services Grants provide funds to expand and strengthen effective, culturally appropriate substance abuse and mental health services at the State and local levels. The services implemented through SAMHSA's Services Grants must incorporate the best objective information available regarding effectiveness and acceptability. In general, SAMHSA's Services Grants are appropriate for applicants seeking Federal support to implement substance abuse and mental health services that have a strong evidence-base for effectiveness. SAMHSA's Services Grants must be used primarily to support direct service delivery. SAMHSA expects that the services will be sustained beyond the term of the grant. Additional instructions and specific requirements for this funding opportunity are described below.

I. Funding Opportunity Description

Authority: Section 506 of the Public Health Service Act, as amended, and subject to the availability of funds.

The purpose of Treatment for Homeless grants is to enable communities to expand and strengthen their treatment services for homeless individuals with substance abuse disorders, mental illness, or with co-occurring substance abuse disorders and mental illness. “Homeless” persons are those who lack a fixed, regular, adequate nighttime residence, including persons whose primary nighttime residence is: a supervised public or private shelter designed to provide temporary living accommodations; a time-limited/nonpermanent transitional housing arrangement for individuals engaged in mental health and/or substance abuse treatment; or a public or private facility not designed for, or ordinarily used as, a regular sleeping accommodation. “Homeless” also includes “doubled-up”—a residential status that places individuals at imminent risk for becoming homeless—defined as sharing another person's dwelling on a temporary basis where continued tenancy is contingent upon the hospitality of the primary leaseholder or owner and can be rescinded at any time without notice.

Background: It is estimated that up to 600,000 persons are homeless on any given night. Persons with substance abuse disorders have an elevated risk for homelessness and for being homeless for long periods. Persons who are homeless have an elevated risk of infectious diseases associated with substance abuse, such as HIV/AIDS and hepatitis. One-half of homeless adults have histories of alcohol abuse or dependence and one-third have histories of drug abuse. About 20-25% of homeless adults have lifetime histories of serious mental illness. Between 10-20% have a co-occurring SA/MH disorder. The “Treatment for Homeless” program began in FY 2001. Currently, there are 50 projects participating in this program.

II. Award Information

1. Estimated Funding Available/Number of Awards: It is expected that $13.9 million will be available to fund 35 awards in FY 2004. The maximum allowable award is $400,000 in total costs (direct and indirect) per year for up to 5 years. Proposed budgets cannot exceed the allowable amount in any year of the proposed project. The actual amount available for the awards may vary, depending on unanticipated program requirements and the number and quality of the applications received. Annual continuations will depend on the availability of funds, grantee progress in meeting program goals and objectives, and timely submission of required data and reports.

2. Funding Instrument: Grant.

III. Eligibility Information

1. Eligible Applicants: Eligibility is restricted by statute to community-based public and private nonprofit entities. These entities include county governments, city or township governments, Federally recognized Native American tribal governments, tribal organizations, community-based nonprofit organizations (including faith-based organizations), and community-based State entities, such as State colleges, universities and hospitals, that propose to provide services under this announcement to the community. States are not eligible to apply under this statute. Current Treatment for Homeless grantees are not eligible to apply under this funding announcement unless their grant ends in September 2004. These eligibility criteria supersede the criteria specified in Section III-1 of the SVC-04 PA (MOD).

Applications for SAMHSA Services Grants must include evidence of experience and credentials as described in Section III-3 of the SVC-04 PA (MOD). Applications that do not include the required evidence will be screened out and will not be reviewed.

2. Cost Sharing or Matching is not required.

3. Other: Applicants must also meet certain application formatting and submission requirements, or the application will be screened out and will not be reviewed. These requirements are described in Section IV-2 below, as well as in the SVC-04 PA (MOD).

IV. Application and Submission Information

1. Address To Request Application Package

Complete application kits may be obtained from: the National Clearinghouse for Alcohol and Drug Information (NCADI) at 1-800-729-6686. When requesting an application kit, the applicant must specify the funding opportunity title (Treatment for Homeless) and the funding opportunity number (TI 04-001) for which detailed information is desired. All information necessary to apply, including where to submit applications and application deadline instructions, is included in the application kit. The PHS 5161-1 application form is also available electronically via SAMHSA's World Wide Web home page: http://www.samhsa.gov (Click on “Grant Opportunities”) and the SVC-04 PA (MOD) is available electronically at http://www.samhsa.gov/grants/2004/standard/Services/index.asp.

When submitting an application, be sure to type “TI 04-001, Treatment for Homeless” in Item Number 10 on the face page of the application form. Also, SAMHSA applicants are required to provide a DUNS Number on the face page of the application. To obtain a DUNS Number, access the Dun and Bradstreet Web site at www.dunandbradstreet.com or call 1-866-705-5711.

Because grantees in the Treatment for Homeless program may use grant funds to provide direct substance abuse services, applicants are required to complete the Assurance of Compliance with SAMHSA Charitable Choice Statutes and Regulations, Form SMA 170. This form will be posted on SAMHSA's Web site with the NOFA and provided in the application kits available at NCADI.

2. Content and Form of Application Submission

Information including required documents, required application components, and application formatting requirements is available in the SVC-04 PA (MOD) in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

—Use the PHS 5161-1 application.

—Applications must be received by the application deadline.

—Applications received after this date must have a proof of mailing date from the carrier dated at least 1 week prior to the due date. Private metered postmarks are not acceptable as proof of timely mailing. Applications not received by the application deadline or not postmarked at least 1 week prior to the application deadline will not be reviewed.

—Information provided must be sufficient for review.

—Text must be legible.

• Type size in the Project Narrative cannot exceed an average of 15 characters per inch, as measured on the physical page. (Type size in charts, tables, graphs, and footnotes will not be considered in determining compliance.)

• Text in the Project Narrative cannot exceed 6 lines per vertical inch.

—Paper must be white paper and 8.5 inches by 11.0 inches in size.

—To ensure equity among applications, the amount of space allowed for the Project Narrative cannot be exceeded.

• Applications would meet this requirement by using all margins (left, right, top, bottom) of at least one inch each, and adhering to the page limit for the Project Narrative stated in the SVC-04 PA (MOD).

• Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

• Space will be measured on the physical page. Space left blank within the Project Narrative (excluding margins) is considered part of the Project Narrative, in determining compliance.

—The page limit for Appendices stated in the SVC-04 PA (MOD) cannot be exceeded.

To facilitate review of your application, follow these additional guidelines. Failure to adhere to the following guidelines will not, in itself, result in your application being screened out and returned without review. However, the information provided in your application must be sufficient for review. Following these guidelines will help ensure your application is complete, and will help reviewers to consider your application.

—The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

—Applications should comply with the following requirements:

• Provisions relating to confidentiality, participant protection and the protection of human subjects, as indicated in the SVC-04 PA (MOD).

• Budgetary limitations as indicated in Sections I, II, and IV-5 of the SVC-04 PA (MOD).

• Documentation of nonprofit status as required in the PHS 5161-1.

—Pages should be typed single-spaced with one column per page.

—Pages should not have printing on both sides.

—Please use black ink, and number pages consecutively from beginning to end so that information can be located easily during review of the application. The cover page should be page 1, the abstract page should be page 2, and the table of contents page should be page 3. Appendices should be labeled and separated from the Project Narrative and budget section, and the pages should be numbered to continue the sequence.

—Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times

Application must be received by May 28, 2004. You will be notified by postal mail that your application has been received. Additional submission information is available in the SVC-04 PA (MOD) in section IV-3.

4. Intergovernmental Review

Applicants for this funding opportunity must comply with Executive Order 12372 (E.O.12372). E.O.12372, as implemented through Department of Health and Human Services (DHHS) regulation at 45 CFR part 100, sets up a system for State and local review of applications for Federal financial assistance. Instructions for complying with E.O. 12372 are provided in the SVC-04 PA (MOD) in section IV-4. A current listing of State Single Points of Contact (SPOCs) is included in the application kit and is available at www.whitehouse.gov/omb/grants/spoc.html.

5. Funding Restrictions

Information concerning funding restrictions is available in the SVC-04 PA (MOD) in section IV-5.

V. Application Review Information

1. Evaluation Criteria

Applications will be reviewed against the Evaluation Criteria and requirements for the Project Narrative specified in the SVC-04 PA (MOD). The following information describes exceptions or limitations to the SVC-04 PA (MOD) and provides special requirements that pertain only to Treatment for Homeless grants. Applicants for Treatment for Homeless grants are required to discuss the following requirements in their application, in addition to the requirements specified in the SVC-04 PA (MOD).

1.1 In “Section C: Proposed Implementation Approach”: Applicants must comprehensively describe how treatment services are linked with housing programs and other services for homeless persons, e.g., primary health care.

1.2 In “Section E: Evaluation and Data”: Applicants are not required to address the sixth bullet regarding per person or unit cost of the project to be implemented, based on the applicant's actual costs and projected costs over the life of the project.

1.3 Treatment for Homeless grantees are required to provide quarterly progress reports instead of the annual progress reports required by the SVC-04 PA (MOD).

1.4 Treatment for Homeless grantees are required to send the Project Director and the Evaluator to all grantee meetings.

1.5 Performance Measurement: All SAMHSA grantees are required to collect and report certain data, so that SAMHSA can meet its obligations under the Government Performance and Results Act (GPRA). Grantees of the Treatment for Homeless program will be required to report performance in several areas. Applicants must document their ability to collect and report the required data in “Section E: Evaluation and Data” of their applications. All Treatment for Homeless grant applicants must document their ability to collect and report data using the Targeted Capacity Expansion Client Level GPRA tool, which can be found at www.csat-gpra.samhsa.gov (click on “Data Collection Tools/Instructions”), along with instructions for completing it. Hard copies are available in the application kits distributed by SAMHSA's National Clearinghouse for Alcohol and Drug Information. GPRA data must be collected at baseline (i.e., the client's entry into the project), 6 months after the baseline, and 12 months after the baseline. Projects serving adolescents also must collect 3 month post-baseline data to capture the nuances of change particular to this population. GPRA data must be entered into the GPRA web system within 7 business days of the forms being completed. In addition, 80% of the participants must be followed up. GPRA data are to be collected and then entered into CSAT's GPRA Data Entry and Reporting System (www.csat-gpra.samhsa.gov). Training and technical assistance on data collecting, tracking, and follow-up, as well as data entry, will be provided by CSAT.

2. Review and Selection Process

Information about the review and selection process is available in the SVC-04 PA (MOD) in section V-2.

In compliance with Sec. 506 of the Public Health Service Act, in making award decisions SAMHSA will give preference to entities that provide integrated primary health, substance abuse, and mental health services to homeless individuals, and to entities that have experience in providing substance abuse and mental health services to homeless individuals.

VI. Award Administration Information

Award administration information, including award notices, administrative and national policy requirements, and reporting requirements are available in the SVC-04 PA (MOD) in section VI. SAMHSA's standard terms and conditions are available at www.samhsa.gov/grants/2004/useful_info.asp.

VII. Agency Contacts for Additional Information

For questions concerning program issues, contact: Joanne Gampel, M.A., SAMHSA/Center for Substance Abuse Treatment/DSCA, 5600 Fishers Lane, Rockwall II, Suite 8-140, Rockville, MD 20857; 301-443-7945; e-mail: jgampel@samhsa.gov or Gigi Belanger, SAMHSA/Center for Mental Health Services/DSSI, 5600 Fishers Lane, Room 11C-05, Rockville, MD 20857; 301-443-1391; e-mail: gbelange@samhsa.gov.

For questions on grants management issues, contact: Kathleen Sample, SAMHSA Division of Grants Management, 5600 Fishers Lane, Rockwall II, Suite 630, Rockville, MD 20857; 301-443-9667; e-mail ksample@samhsa.gov.

Dated: March 17, 2004.
Margaret M. Gilliam,
Acting Director, Office of Policy, Planning and Budget, Substance Abuse and Mental Health Services Administration.

[FR Doc. 04-6371 Filed 3-22-04; 8:45 am]

BILLING CODE 4162-20-P